DEPARTMENT OF COMMERCE

National Oceanic and Atmospheric Administration

[I.D. 053106C]

Notice of Availability of Draft Stock Assessment Reports

AGENCY: National Marine Fisheries Service (NMFS), National Oceanic and Atmospheric Administration (NOAA), Commerce.

ACTION: Notice of availability; request for comments.

SUMMARY: NMFS reviewed the Alaska, Atlantic, and Pacific regional marine mammal stock assessment reports (SARs) in accordance with the Marine Mammal Protection Act (MMPA). SARs for marine mammals in the Alaska, Atlantic, and Pacific regions were revised according to new information. NMFS solicits public comments on draft 2006 SARs.

DATES: Comments must be received by October 26, 2006.

ADDRESSES: The 2006 draft stock assessment reports are available in electronic form via the Internet at http://www.nmfs.noaa.gov/pr/sars/.

Copies of the Alaska Regional SARs may be requested from Robyn Angliss, Alaska Fisheries Science Center, NMFS, 7600 Sand Point Way, NE BIN 15700, Seattle, WA 98115-0070.

Copies of the Atlantic and Gulf of Mexico Regional SARs may be requested from Gordon Waring, Northeast Fisheries Science Center, 166 Water St., Woods Hole, MA 02543.

Copies of the Pacific Regional SARs may be requested from Tina Fahy, Southwest Regional Office, NMFS, 501 West Ocean Boulevard, Long Beach, CA 90802-4213.

Send comments or requests for copies of reports to: Chief, Marine Mammal Conservation Division, Office of Protected Resources, National Marine Fisheries Service, 1315 East-West Highway, Silver Spring, MD 20910-3226, Attn: Stock Assessments. Comments may also be sent via facsimile (fax) to 301-427-2516 or via e-mail to mmsar.2006@noaa.gov.

FOR FURTHER INFORMATION CONTACT: Tom Eagle, Office of Protected Resources, 301-713-2322, ext. 105, e-mail Tom.Eagle@noaa.gov; Robyn Angliss 206- 526-4032, e-mail Robyn.Angliss@noaa.gov, regarding Alaska regional stock assessments; Gordon Waring, 508-495-2311, e-mail Gordon.Waring@noaa.gov, regarding Atlantic regional stock assessments; or Tina Fahy, 562-280-4060, e-mail Christina.Fahy@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every 3 years for non-strategic stocks. NMFS and the FWS are required to revise a SAR if the status of the stock has changed or can be more accurately determined. NMFS, in conjunction with the Alaska, Atlantic, and Pacific Scientific Review Groups (SRGs), reviewed the status of marine mammal stocks as required and revised reports in the Alaska, Atlantic, and Pacific regions to incorporate new information. NMFS solicits public comments on the draft 2006 SARs.

Alaska Reports

In the Alaska region, 18 reports were revised, and 18 were not revised. Most changes were updates of abundance or mortality estimates and did not change the status of the stock. SARs for the Alaska harbor seals (Southeast Alaska, Gulf of Alaska, and Bering Sea stocks) were updated to include recent information on abundance, trends in abundance, fishery-related serious injury and mortality, and subsistence harvest levels. Although the abundance estimates now reflected in the Alaska harbor seal SARs are higher than the estimates in the past, this apparent increase is due to changes in analytical procedures and does not necessarily reflect changes in abundance. The best available information on Alaska harbor seal stock structure suggests that there are more than the current three stocks identified in the stock assessment reports; NMFS, in cooperation with appropriate Alaska Native organizations, is evaluating the new genetic information and anticipates making a joint recommendation regarding stock structure in 2006.

Abundance estimates and Potential Biological Removal (PBR) levels increased for northern fur seals and Steller sea lions. The increase in the northern fur seal abundance was due to a recent survey of one rookery on Bogoslof Island, which was last assessed in 1998 and has grown appreciably since that time. The western Steller sea lion stock assessment report acknowledges that genetics differences between animals in western Alaska and Russia may be sufficient to support a designation of an Asian stock of Steller sea lions.

The PBR level for Dall's porpoise is no longer calculated because the abundance estimate is more than 8 years old and, according to NMFS' guidelines for preparing SARs, is considered unreliable for use in conservation decisions. The fisheries with which this stock overlaps are observed regularly and have had low levels of Dall's porpoise serious injury or mortality over at least the past 10 years. Because the best available information indicates that human-related serious injury and mortality is likely not a major concern, the stock remains classified as “not strategic”.

The PBR level for the Cook Inlet stock of beluga whales is no longer calculated. The abundance is well below the maximum estimate in the late 1970s, and the population may be declining due to unidentified causes. Therefore, underlying assumption (that reducing or eliminating human-caused mortality would allow the population to increase) of the PBR approach does not appear to be valid, and NMFS cannot estimate a maximum number of animals that may be removed from the population while allowing the population to recover to its optimum sustainable population levels.

The three stocks of harbor porpoise in the Alaska region (Southeast Alaska, Gulf of Alaska, and Bering Sea stocks) were changed from “not strategic” to “strategic”. For each stock, abundance estimates are old. A number of fisheries in Alaska overlap harbor porpoise distribution and may take porpoise; however, few fisheries have observer data for estimating mortality. Furthermore, harbor porpoise sightings on surveys for killer whales in Southeast Alaska indicate fewer porpoise sightings per unit effort in recent years than in earlier surveys. NMFS has, therefore, labeled these three stocks of harbor porpoise as “strategic” stocks as a precautionary approach.

The status of Pacific white-sided dolphin, North Pacific stock, was changed from “strategic” to “not strategic”. There are no recent, reliable estimates of abundance and mortality/serious injury for this stock; however, white-sided dolphins have been seen during historical surveys in portions of the stock's range at densities that suggest sufficient numbers of dolphins to sustain the low levels of mortality that were previously estimated since the termination of high-seas driftnet fishing in 1991.

Atlantic Reports

Sixteen reports (four strategic and 12 non-strategic) were revised in the Atlantic region, and 39 reports, including all reports for marine mammals in the Gulf of Mexico, were not revised. Most updates were to include new abundance and mortality estimates and did not change the status of the affected stocks.

Estimates of incidental mortality and serious injury for the northeast and mid-Atlantic bottom trawl fisheries were not completed in time for this draft release. SRG review of the estimates will be completed prior to the commencement of the Atlantic trawl take reduction team meeting in September 2006. Therefore, mortality estimates and strategic status determinations are pending for long-finned and short-finned pilot whales, common dolphin, Risso's dolphin and Atlantic white-sided dolphin and will be included in the draft 2007 reports.

Pacific Reports

Of the 61 reports in the Pacific region, nine were revised for 2006. All revisions were updates to abundance and PBR or mortality estimates, and none resulted in a change of the MMPA status (strategic or not strategic). The SAR for killer whales, Eastern North Pacific southern resident stock, was revised to indicate its listing as endangered under the ESA; however, the stock was already “strategic” under the MMPA due to its earlier designation as depleted.

Dated: July 25, 2006.
James H. Lecky,
Director, Office of Protected Resources, National Marine Fisheries Service.

[FR Doc. E6-12126 Filed 7-27-06; 8:45 am]

BILLING CODE 3510-22-S